NATIONAL TRANSPORTATION SAFETY BOARD

SES Performance Review Board

AGENCY: National Transportation Safety Board.

ACTION: Notice.

SUMMARY: Notice is hereby given of the appointment of members of the National Transportation Safety Board, Performance Review Board (PRB).

FOR FURTHER INFORMATION CONTACT: Emily T. Carroll, Chief, Human Resources Division, Office of Administration, National Transportation Safety Board, 490 L'Enfant Plaza SW., Washington, DC 20594-0001, (202)314-6233.

SUPPLEMENTARY INFORMATION: Section 4314(c)(1) through (5) of Title 5, United States Code requires each agency to establish, in accordance with regulations prescribed by the Office of Personnel Management, one or more SES Performance Review Boards. The board reviews and evaluates the initial appraisal of a senior executive's performance by the supervisor and considers recommendations to the appointing authority regarding the performance of the senior executive.

The following have been designated as members of the Performance Review Board of the National Transportation Safety Board:

The Honorable Mark R. Rosekind, Member, National Transportation Safety Board; PRB Chair

The Honorable Robert L. Sumwalt, III; Member, National Transportation Safety Board

David Tochen, General Counsel, National Transportation Safety Board

Florence A.P. Carr, Director, Bureau of Trade Analysis, Federal Maritime Commission

Jerold Gidner, Tribal Team Lead, Government Sector for the Extractive Industries Transparency Initiative, Department of the Interior

David L. Mayer, Managing Director, National Transportation Safety Board (substitute only for Mr. Tochen's rating review)

Anthony P. Scardino, Chief Financial Officer, U.S. Patent and Trademark Office (Alternate)

Dated: September 24, 2014.
Candi R. Bing,
Federal Register Liaison.

[FR Doc. 2014-23142 Filed 9-29-14; 8:45 am]

BILLING CODE 7533-01-P